DEPARTMENT OF ENERGY

Federal Energy Regulatory Commission

[Docket No. CP02-124-000]

National Fuel Supply Corporation; Notice of Application

April 3, 2002.

On March 25, 2002, National Fuel Supply Corporation (National Fuel), 10 Lafayette Square, Buffalo, New York 14203, filed an application in Docket No. CP02-124-000 pursuant to Section 7(c) of the Natural Gas Act (NGA) and Part 157 of the Federal Energy Regulatory Commission's (Commission) Regulations for amendment of its certificate of public convenience and necessity to authorize a revised storage field area for its Beech Hill Storage Field (Beech Hill) in Allegany County, New York, all as more fully set forth in the application on file with the Commission and open to public inspection. This filing may be viewed on the web at http://www.ferc.gov using the “RIMS” link, select “Docket #” and follow the instructions (call (202)208-2222 for assistance).

Any questions regarding this application should be directed to David W. Reits, Assistant General Counsel for National Fuel, 10 Lafayette Square, Buffalo, New York 14203, or call at (716) 857-7949

Specifically, National Fuel requests Commission authorization to extend Beech Hill's pool boundary in the area southwest of the field. National Fuel also proposes a corresponding extension of the Beech Hill buffer zone. These changes will add 799 acres to the map are of Beach Hill, inclusive of the buffer zone addition. National Fuel states that newer seismic data and analysis of reprocessed older seismic data support the extension of Beech Hill.

National Fuel's application also seeks authorization to add approximately 2,115 acres of the state Line Field, located to the southwest of Beech Hill, to the Beech Hill map area (this additional acreage will be designated as the Beech Hill Annex). National Fuel states that the Oriskany formation within the Beech Hill Annex is in communication with Beech Hill and that gas stored in Beech Hill has migrated into the Beech Hill Annex area. It is further indicated that if the State Line Field is jointly developed for storage operation by National Fuel, Dominion Transmission, Inc., and Tennessee Gas Pipeline Company, as the companies contemplate, National Fuel would seek further authorization to amend the map area of the Beech Hill Storage Field to restore the Beech Hill Annex to the State Line Field. At such time, the pressure of the Oriskany formation in the State Line Field would be raised, limiting or eliminating the migration of gas from Been Hill.

National Fuel also seeks temporary authorization to withdraw gas from two wells within the proposed Beech Hill Annex pending permanent authorization.

According to National Fuel, the pending application does not seek to change either the capacity or deliverability of the storage field, nor are there any new facilities associated with the application.

There are two ways to become involved in the Commission's review of this project. First, any person wishing to obtain legal status by becoming a party to the proceedings for this project should, on or before April24, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying certificate will be issued.

Magalie R. Salas,
Secretary.

[FR Doc. 02-8503 Filed ?-??-02; 8:45 am]

BILLING CODE 6717-01-P